DEPARTMENT OF THE INTERIOR

Bureau of Indian Affairs

Grant Availability to Federally-Recognized Indian Tribes for Projects Implementing Traffic Safety on Indian Reservations

AGENCY: Bureau of Indian Affairs, Interior.

ACTION: Notice.

SUMMARY: In accordance with the Surface Transportation and Uniform Relocation Assistance Act of 1987, and as authorized by the Secretary of Transportation, the Bureau of Indian Affairs intends to make funds available to federally-recognized Indian tribes on an annual basis for implementing traffic safety projects, which are designed to reduce the number of traffic crashes, death, injuries and property damage within Indian country. Because of the limited funding available for this project, all projects will be reviewed and selected on a competitive basis. This notice informs Indian tribes that grant funds are available and that information packets are being mailed to all tribes. Information packets will be distributed to all Tribal Leaders on the latest Tribal Leaders list that is compiled by the Bureau of Indian Affairs.

DATES: Request for funds must be received by May 1 of each program year. Requests not in the office of the Indian Highway Safety Program by close of business on May 1st will not be considered and will be returned unopened. The information packets will be distributed by the end of January of each program year.

ADDRESSES: Each tribe must submit their request to the Bureau of Indian Affairs, Division of Safety and Risk Management, Attention: Indian Highway Safety Program Coordinator, 1011 Indian School, NE, Suite 331, Albuquerque, NM 87104.

FOR FURTHER INFORMATION CONTACT: Tribes should direct questions to: Patricia Abeyta, Coordinator, Indian Highway Safety Program or Charles L. Jaynes, Program Administrator, Bureau of Indian Affairs, 1011 Indian School, NE, Suite 331, Albuquerque, New Mexico 87104; Telephone (505) 563-5371 or 245-2104.

SUPPLEMENTARY INFORMATION:

Background

The Federal-Aid Highway Act of 1973 (Pub. L. 93-87) provides for U.S. Department of Transportation (DOT) funding to assist Indian tribes in implementing Highway Safety projects. The projects must be designed to reduce the number of motor vehicle traffic crashes and their resulting fatalities, injures, and property damage within Indian reservations. All federally-recognized Indian tribes on Indian reservations are eligible to receive this assistance. All tribes receiving awards of program funds are reimbursed for eligible costs incurred under the terms of 23 U.S.C. 402 and subsequent amendments.

Responsibilities

For the purposes of application of the Act, Indian reservations are collectively considered a “State” and the Secretary of the Interior is considered the “Governor of a State.” The Secretary of the Interior delegated the authority to administer the programs for all the Indian Nations in the United States to the Assistant Secretary—Indian Affairs. The Assistant Secretary—Indian Affairs further delegated the responsibility for administration of the Indian Highway Safety Program to the Central Office, Division of Safety and Risk Management (DSRM), located in Albuquerque, New Mexico. The Chief, DSRM, as Program Administrator of the Indian Highway Safety Program, has staff members available to provide program and technical assistance to the Indian tribes. The Indian Highway Safety Program maintains contacts with the DOT with respect to program approval, funding and receiving technical assistance. The National Highway Traffic Safety Administration (NHTSA) is responsible for ensuring that the Indian Highway Safety Program is carried out in accordance with 23 CFR part 1200 and other applicable Federal statutes and regulations.

National Priority Program Areas

The following highway safety program areas have been identified as priority program areas eligible for funding under 23 CFR 1205.3 on tribal lands:

(a) Impaired driving.

(b) Occupant protection.

(c) Traffic records.

Other fundable program areas may be considered based upon well documented problem identification from the tribes.

Highway Safety Program Funding Areas

Proposals are being solicited for the following program areas:

(1) Impaired Driving. Programs directed at reducing injuries and death attributed to impaired driving on the reservations such as Selective Traffic Enforcement Programs to apprehend impaired drivers, specialized law enforcement training (i.e. Standardized Field Sobriety Testing), public information programs on alcohol/other drug use and driving, education programs for convicted DWI/DUI offenders, various youth alcohol education programs promoting traffic safety, and programs or projects directed toward judicial training. Proposals for projects that enhance the development and implementation of innovative programs to combat impaired driving are also solicited.

(2) Occupant Protection. Programs directed at decreasing injuries and deaths attributed to the lack of safety belt and child restraint usage such as surveys to determine usage rates and to identify high-risk non-users, comprehensive programs to promote correct usage of child safety seats and other occupant restraints, enforcement of safety belt ordinances or laws, specialized training (i.e. Operation Kids, Traffic Occupant Protection Strategies, and Standardized Child Passenger Safety Technician), and evaluations.

(3) Traffic Records. Programs to help tribes develop or update electronic traffic records systems which will assist with analysis of crash information, causal factors, and support joint efforts with other agencies to improve the tribe's traffic records system.

Project Guidelines

BIA will send information packets to the Tribal Leader of each federally-recognized Indian tribe by the end of January of each program year. Upon receiving the information packet, each tribe, to be eligible, must prepare a proposed project based on the following guidelines:

(1) Program Planning. Program will be based upon the highway safety problems identified and the goals/objectives measures selected by the tribe.

(2) Problem Identification. Highway traffic safety problems will be based upon accurate tribal data. This data should show problems and/or trend analysis and should be available in tribal enforcement and traffic crash records. The data must accompany the proposal.

(3) Countermeasures Selection. Once tribal traffic safety problems are identified, appropriate countermeasures to solve or reduce the problem(s) must be identified.

(4) Objectives/Performance Measures. List of objectives and measurable goals, within the National Priority Program Areas, based on highway safety problems identified by the tribe, must be included in each proposal, expressed in clearly defined, time-framed, and measurable terms. Performance indicators that enable the Indian Highway Safety Program (IHSP) to track progress, from a specific baseline, must accompany each goal. Performance measures should be aggressive but attainable.

(5) Line Item Budget. The activities to be funded must be outlined in detail according to the following object groups: personnel services; travel and training, operating costs and equipment. Because of limited funding, this office will limit indirect costs to a maximum of 15 percent; however, all tribes applying for grants must attach a copy of the tribe's indirect cost rate to the application.

(6) Evaluation Plan. Evaluation is the process of determining whether a highway safety activity has accomplished its objectives. The tribe must include in the funding request a plan explaining how the evaluation will be accomplished and identifying the criteria to be used in measuring performance.

(7) Technical Assistance. In order to provide technical assistance and ensure that NHTSA regulations are met, the BIA Indian Highway Safety Program requests that each tribe applying for a grant, attach a letter on tribal stationary, requesting that the program use a small portion of the grant funds for program oversight. [Note: Signing a letter authorizing the BIA Indian Highway Safety Program to use a small amount of funds for program oversight will not decrease the amount of funds that will be authorized for any tribal program.]

(8) Project Length. The traffic safety program is designed primarily as the source of invention and motivation. This program is not intended for financially supporting continuing operations.

(9) Certification Regarding Drug-Free Workplace Requirement. Indian tribes receiving highway safety grants through the Indian Highway Safety Program must certify that they will maintain a drug-free workplace.

(10) Certification Regarding Lobbying. Indian tribes receiving highway safety grants through the Indian Highway Safety Program must certify that they will not use any of the direct funds to pay for, by or on behalf of the tribe, to any person for influencing or attempting to influence an officer or employee of any agency, a Member of Congress, an officer or employee of Congress, or an employee of a Member of Congress in connection with the awarding of any Federal contract, the making of any Federal grant, the making of any Federal loan, the entering into of any cooperative agreement, and the extension, continuation, renewal, amendment, or modification of any Federal contract, grant, loan or cooperative agreement. [Note: None of the funds under this program can be used for any activity specifically designed to urge or influence a State or local legislator to favor or oppose the adoption of any specific legislative proposal pending before any State or local legislative body.]

Submission Deadline

Each tribe must send its funding request to the BIA IHSP offices in Albuquerque, New Mexico. The Indian Highway Safety Program must receive the request by close of business May 1 of each program year.

Selection Criteria

Each funding request will be reviewed and evaluated by the BIA Indian Highway Safety Program staff and a designated selection committee. Each member, by assigning points to the following five criteria, will rank each of the proposals based on the following criteria:

Criteria (1), the strength of the Problem Identification based on verifiable, current and applicable documentation of the traffic safety problem (40 points maximum).

Criteria (2), the quality of the proposes solution plan based on aggressive but attainable Performance Measures, time-framed action plan, cost eligibility, amount, if any, of in-kind funding/support provided by the tribe, and necessity and reasonableness of the budget (30 points maximum).

Criteria (3), details on how the tribe will evaluate and show progress on its performance measures regarding the Evaluation component (20 points maximum).

Criteria (4), documentation in support of the submitting tribe's qualification, commitment and community involvement in traffic safety should be included (10 points maximum).

Criteria (5), tribes are eligible for bonus points (up to 10 extra points) if all reporting requirements have been met in previous years.

Notification of the Selection

Those tribes selected to participate will be notified by letter. Upon notification, each tribe selected must provide a duly authorized tribal resolution. The certification and resolution must be on file before grants funds can be expended or reimbursed by the tribe.

Notification of Non-Selection

The Program Administrator will notify each tribe of non-selection.

Uniform Administrative Requirements for Grant-in-Aid

Uniform grant administration procedures have been established on a national basis of all grant-in-aid programs by DOT. NHTSA under 49 CFR part 18, “Uniform Administrative Requirements for Grants and Cooperative Agreements to State and Local Government.” NHTSA and FHWA have codified uniform procedures for State Highway Safety Programs in 23 CFR parts 1200, 1205 and 1251. OMB Circular A-87 and the “Highway Safety Grant Funding Policy for NHTSA/FHWA Field Administered Grants” are the established cost principles applicable to grants and contracts through BIA and with tribal governments. It is the responsibility of the BIA Indian Highway Safety Program office to establish operating procedures consistent with the applicable provisions of these rules.

Standards for Financial Management System

Tribal financial systems must provide:

(1) Current and complete disclosure of project actions;

(2) Accurate and timely record keeping;

(3) Accountability and control of all grant funds and equipment;

(4) Comparison of actual expenditures with budgeted amounts; and

(5) Documentation of accounting records.

Auditing of Highway Safety Projects will be included in the Tribal A-133 single audit requirement. Tribes will provide monthly program status reports and a corresponding reimbursement claim to the Coordinator, BIA Indian Highway Safety Program, 1011 Indian School, Suite 331, Albuquerque, New Mexico 87104. These documents will be submitted no later than 10 working days beyond the reporting month.

Project Monitoring

During the program year, it is the responsibility of the BIA IHSP office to review the implementation of tribal traffic safety plans and programs, monitor the progress of their activities and expenditures and provide technical assistance as needed. This assistance may be on-site, by telephone and/or a review of monthly progress claims.

Project Evaluation

BIA will conduct an annual performance evaluation for each Highway Safety Project. The evaluation will measure the actual accomplishments to the planned activity. BIA IHSP staff will evaluate the project on-site at the discretion of the Indian Highway Safety Program Administrator.

Dated: April 7, 2006.
Michael D. Olsen,
Acting Principal Deputy Assistant Secretary—Indian Affairs.

[FR Doc. E6-6026 Filed 4-21-06; 8:45 am]

BILLING CODE 4310-5h-P